DEPARTMENT OF VETERANS AFFAIRS

Voluntary Service National Advisory Committee; Notice of Meetings

The Department of Veterans Affairs (VA) gives notice under Public Law 92-463 (Federal Advisory Committee Act) that the Executive Committee of the VA Voluntary Service (VAVS) National Advisory Committee (NAC) will meet October 22-23, 2014, at the Department of Veterans Affairs, Board of Veterans Appeals Conference Room, 425 I Street NW., 4th Floor, Room 4E.400, Washington, DC. The sessions will begin at 8:30 a.m. each day and end at 4:30 p.m. on October 22, and at noon on October 23, 2014. The meeting is open to the public.

The Committee, comprised of 54 national voluntary organizations, advises the Secretary, through the Under Secretary for Health, on the coordination and promotion of volunteer activities within VA health care facilities. The Executive Committee consists of 20 representatives from the NAC member organizations.

On October 22, agenda topics will include: NAC goals and objectives; review of minutes from the March 2014, NAC annual meeting; VAVS update on the Voluntary Service program's activities; Parke Board update; evaluations of the 2014 NAC annual meeting; review of membership criteria and process; and plans for 2015 NAC annual meeting (to include workshops and plenary sessions).

On October 23, agenda topics will include: subcommittee reports; review of standard operating procedures; review of Fiscal Year 2014 organization data; 2016 NAC annual meeting plans; and any new business.

No time will be allocated at this meeting for receiving oral presentations from the public. However, the public may submit written statements for the Committee's review to Mrs. Sabrina C. Clark, Designated Federal Officer, Voluntary Service Office (10B2A), Department of Veterans Affairs, 810 Vermont Avenue NW., Washington, DC 20420, or email at Sabrina.Clark@VA.gov. Any member of the public wishing to attend the meeting or seeking additional information should contact Mrs. Clark at (202) 461-7300.

Dated: September 12, 2014.
Jelessa Burney,
Federal Advisory Committee Management Officer.

[FR Doc. 2014-22160 Filed 9-16-14; 8:45 am]

BILLING CODE P